FEDERAL MEDIATION AND CONCILIATION SERVICE

Privacy Act of 1974; System of Records

AGENCY: Federal Mediation and Conciliation Service.

ACTION: Notice of a new system of records.

SUMMARY: Federal Mediation and Conciliation Service (FMCS) uses photographs, biographies, and agency contact information of employees to provide background information to the public, for use by stakeholders in preparation for services, and for trainings and conferences. FMCS may also use these documents for internal agency events and communications.

DATES: This notice will be effective without further notice on September 20, 2021 unless otherwise revised pursuant to comments received. New routine uses will be effective on September 20, 2021. Comments must be received on or before September 20, 2021.

ADDRESSES: You may send comments, identified by FMCS-0003, by any of the following methods:

• Mail: Office of General Counsel, 250 E Street SW, Washington, DC 20427.

• Email: ogc@fmcs.gov. Include FMCS-0003 on the subject line of the message.

• Fax: (202) 606-5444.

FOR FURTHER INFORMATION CONTACT: Greg Raelson, Director of Congressional and Public Affairs, at graelson@fmcs.gov, 202-606-8081.

SUPPLEMENTARY INFORMATION: This new system is needed for collecting, storing and maintaining FMCS employee biographical information and FMCS employee and event photographs.

SYSTEM NAME AND NUMBER:

FMCS-0003

SECURITY CLASSIFICATION:

Unclassified.

SYSTEM LOCATION:

Federal Mediation and Conciliation Service, 250 E Street SW, Washington, DC 20427.

SYSTEM MANAGER(S):

Greg Raelson, Director of Congressional and Public Affairs, email graelson@fmcs.gov, or send mail to Federal Mediation and Conciliation Service, 250 E Street Southwest, Washington, DC 20427, Attn: Greg Raelson.

AUTHORITY FOR MAINTENANCE OF THE SYSTEM:

Federal Mediation and Conciliation Service, 29 U.S.C. 172, et seq.; Departmental Regulations, 5 U.S.C. 301.

PURPOSE(S) OF THE SYSTEM:

The purposes of the system are as follows:

(a) The records are used for internal and external communications, and to provide the public with contact information and biographies of the employees who carry out FMCS's mission and activities.

(b) To digitize FMCS photographic files in support of preserving the materials.

(c) To be used for reproduction by FMCS employees organizing such events as awards, ceremonies, farewell ceremonies and receptions, FMCS anniversary ceremonies and receptions, conferences, workshops, speaking engagements, and FMCS training and education programs.

CATEGORIES OF INDIVIDUALS COVERED BY THE SYSTEM:

All current and former FMCS employees, clients, visitors from other agencies, and members of the public.

CATEGORIES OF RECORDS IN THE SYSTEM:

These records consist of digital photographs, digitized images of photographic prints, negatives, and slides, and indexing data including name, geographical district, biographies, business title, business email, business cell phone and office number, business office address, business address of events, and dates of events.

RECORD SOURCE CATEGORIES:

Photographs and biographical information are provided by FMCS employees on an ongoing basis. Donors include FMCS employees, FMCS clients, and visitors from the public or other agencies. Other records such as contact information are obtained from FMCS records.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside the Agency as a routine use pursuant to 5 U.S.C. 552a(b)(3) as follows:

(a) As communication material at conferences, trainings, and speaking engagements where FMCS employees participate in their official capacity to demonstrate the experience and background of FMCS employees.

(b) To current and prospective FMCS clients including other federal agencies to provide background information on individuals for public knowledge and awareness.

(c) To a Congressional office from the record of an individual in response to an inquiry from the Congressional office made at the request of that individual.

(d) To respond to subpoenas in any litigation or other proceeding.

(e) For distribution and presentation for news, public relations, official agency social media, community affairs, and client services purposes.

(f) In support of research activities conducted by FMCS employees and other agencies.

(g) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(h) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records are stored electronically on the public facing website located here. Also, records are stored on FMCS's shared and internal hard drives and on the FMCS's Microsoft Office 365 SharePoint site both accessible only to FMCS employees. Hard copies of photographs are also displayed in FMCS's offices.

POLICIES AND PRACTICES FOR RETRIEVAL OF RECORDS:

Records on the public facing website can be searched by name, geographic district, and zip code. Records on the FMCS's shared and internal drives can be searched by name, and date and name of the event. On SharePoint, records can be searched by the date and name of the event.

POLICIES AND PRACTICES FOR RETENTION AND DISPOSAL OF RECORDS:

Records are updated as needed and retained until no longer needed for business use. All records are retained and disposed of in accordance with General Records Schedule 6.4, issued by the National Archives and Records Administration.

ADMINSTRATIVE, TECHNICAL, AND PHYSICAL SAFEGUARDS:

Electronic records on FMCS's shared and internal drives, and on SharePoint are safeguarded in a secured environment and are maintained in a secure, password-protected electronic system that will utilize commensurate safeguards that may include firewalls, intrusion detection and prevention systems, and role-based access controls. Hard copy records are accessed in FMCS facilities that are limited to authorized personnel with official duties requiring access. FMCS facilities are equipped with security cameras and 24-hour security guard service. These records are kept in limited access areas in locked offices. All records are protected from unauthorized access through appropriate administrative, operational, and technical safeguards. These safeguards include restricting access to authorized personnel who have a “need to know”, using locks, and password protection identification features.

RECORD ACCESS PROCEDURES:

Same as above.

CONTESTING RECORDS PROCEDURES:

See 29 CFR 1410.6, Requests for correction or amendment of records, on how to contest the content of any records. Privacy Act requests to amend or correct records may be submitted to the Chief Privacy Officer at privacy@fmcs.gov or Chief Privacy Officer, FMCS 250 E Street SW Washington, DC 20427. Also, see https://www.fmcs.gov/privacy-policy/.

NOTIFICATION PROCEDURES:

See 29 CFR 1410.3(a), Individual access requests.

EXEMPTIONS PROMULGATED FOR THE SYSTEM:

None.

HISTORY:

None.

Dated: August 16, 2021.
Sarah Cudahy,
General Counsel.

[FR Doc. 2021-17807 Filed 8-18-21; 8:45 am]

BILLING CODE 6732-01-P